DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Comparative Effectiveness Research-Continuing Education.” In accordance with the Paperwork Reduction Act, 44 U.S.C. 3501-3521, AHRQ invites the public to comment on this proposed information collection.

This proposed information collection was previously published in the Federal Register on February 28th, 2011 and allowed 60 days for public comment. No comments were received. The purpose of this notice is to allow an additional 30 days for public comment.

DATES: Comments on this notice must be received by June 24, 2011.

ADDRESSES: Written comments should be submitted to: AHRQ's OMB Desk Officer by fax at (202) 395-6974 (attention: AHRQ's desk officer) or by e-mail at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.letkowitz@AHRQ.hhs.gov.

SUPPLEMENTARY INFORMATION:

Proposed Project

Comparative Effectiveness Research-Continuing Education

Previous dissemination efforts in health care research and evidence through comparative effectiveness funded by the Federal Government have largely been focused in academic settings, rather than among physicians and clinicians in health care delivery settings. This project implements and evaluates methods that extend beyond the academic setting to engage the target audiences in the health care environment where decisions are typically made.

Most clinicians are required to complete continuing medical education (CME) accepted by accrediting organizations recognized by State medical boards. Over sixty boards require anywhere from 12 CME credits to 50 CME credits per year for a clinician to retain their State licensure. (State Medical Licensure Requirements and Statistics, 2010, http://www.ama-assn.org/amal/pub/upload/mm/40/table16.pdf.) AHRQ currently provides CME credits on some of its comparative effectiveness research reviews; however, these CME credits are applicable to physicians only and AHRQ is not conducting any follow-up surveys with physicians on these CME activities to ascertain the impact on physician behavior. AHRQ is expanding its continuing education to include nurses, nurse practitioners, physician assistants, medical assistants, pharmacists, respiratory therapists, and other allied health professionals, as well as physicians. In addition, AHRQ wants to assess the impact continuing education has on clinician behavior, its perceived value, and whether or not education on comparative effectiveness research made a difference in a clinician's confidence in applying comparative effectiveness research in practice, understanding the application of such research, and improved ability to counsel patients on treatment and management alternatives.

Dissemination of clinical and research findings to clinicians varies in approach, methods and by target audience. Highly technical and scientific publications are peer reviewed and serve to validate the methods, calculations, analysis and conclusions of studies and research. However, it is nearly impossible to discern whether the manuscript was read, its effect on the reader, and the likelihood that the reader will utilize the information.

Accredited education is widely accepted as a method for dissemination of research findings and is provided in various ways, including online, on site, and through audio and video presentations. To earn credit for participation, clinicians must provide contact information, allowing the possibility of follow-up data collections regarding behaviors, attitudes and performance information about the participant. AHRQ has also provided accredited education as a method to disseminate CER findings, and with this project, has reaffirmed the value of CME in dissemination of CER findings and expanded the commitment to provide accredited education for multiple health care disciplines.

The goal of this project is to enhance awareness of comparative effectiveness research among clinicians and measure the value and impact of these efforts.

This study is being conducted by AHRQ through its contractor, PRIME Education, Inc., pursuant to AHRQ's statutory authority to conduct and support research on healthcare and on systems for the delivery of such care, including activities with respect to: the quality, effectiveness, efficiency, appropriateness and value of healthcare services; quality measurement and improvement; and clinical practice. 42 U.S.C. 299a(a)(1),(2) and (4).

Method of Collection

To achieve this project's goal, the following activities and data collections will be implemented:

1. Provide continuing medical education (CME) or continuing education units (CE/CEU) through the appropriate accrediting organizations by providing 15 multimedia online continuing education modules per year for 3 years, on specific comparative effectiveness research reports and provide quantitative and qualitative metrics about usage of these programs by physicians, pharmacists, nurses, nurse practitioners, physician assistants, medical assistants, allied health professionals, and other clinicians. This activity is designed to raise awareness of and utility of comparative effectiveness research by providing free and easy access to clinician guides and consumer guides for clinicians and their patients/families to assist in making informed decisions about health care.

The following monthly utilization rates for the online CME/CE/CEU activities will be collected: The number of CME/CE/CEU certificates issued, monthly participation statistics, and the number of clinician and consumer guides ordered. Because all of the CME/CE/CEU activities are online, the utilization rates are automatically collected by the contractor's computer when the health care professional registers for the activity, participates in the online education, requests continuing education credit for the activity, and orders clinician and consumer guides. Therefore, this activity does not require OMB clearance.

2. CME/CE/CEU registration data is provided by the health care professional when he or she logs on and registers for a course. The health care professional would key in their name, e-mail address, address (selecting either their home or business address), telephone number, type of discipline, and their practice setting. This data is collected to ensure that the health care professional receives CME/CE/CEU credit for the courses that he or she takes and will be used to implement the AHRQ Online Continuing Education Participant Evaluation described below.

3. AHRQ Online Continuing Education Participant Evaluation to evaluate the effectiveness and impact of the CME/CE/CEU modules at 60 days, 6 months and 1 year after completion of the module. The purpose of this evaluation is to assess the clinicians' confidence level in applying comparative effectiveness research, their understanding of the research, how valuable the research is to the clinician and their intent to change their practice based on this research. Evaluation questions have been developed based upon established conceptual frameworks and principles of adult learning.

Data collected will be used to assess the utility and effectiveness of the educational module in increasing awareness and utility of information provided in comparative effectiveness research. Data will provide useful quantitative and qualitative metrics which AHRQ can use to measure the outcomes of the project. Moreover, these metrics will enable AHRQ to identify new potential barriers that may thwart the outcome-lending important information regarding future educational needs.

Estimated Annual Respondent Burden

Exhibit 1 shows the estimated annualized burden hours for the respondents' time to participate in this research. The AHRQ Online Continuing Education Participant Evaluation will be completed at 3 different points in time after completion of the CME/CE/CEU education module. The CME/CE/CEU registration data is collected for an estimated 1,500 health care professionals and takes approximately 5 minutes. The same estimated 1,500 health care professionals will complete the evaluation 3 times each year, which takes about 3 minutes to complete. The total annual burden is estimated to be 350 hours.

Exhibit 2 shows the estimated annual cost burden to respondents, based on their time to participate in surveys for each CME/CE/CEU module. The annual cost burden is estimated to be $16,290.]

Exhibit 1. Estimated annualized burden hours per module

Form name | Number of respondents | Number of responses per respondent | Hours per response survey | Total burden hours
AHRQ Online Continuing Education CME/CE/CEU Registration Data | 1500 | 1 | 5/60 | 125
AHRQ Online Continuing Education Participant Evaluation | 1500 | 3 | 3/60 | 225
Total | 3,000 | na | na | 350

Exhibit 2. Estimated annualized cost burden per module

Form name | Number of respondents | Total burden hours | Average hourly wage rate* | Total cost burden
AHRQ Online Continuing Education CME/CE/CEU Registration Data | 1500 | 125 | $46.54 | $5818
AHRQ Online Continuing Education Participant Evaluation | 1500 | 225 | 46.54 | 10,472
Total | 3,000 | 350 | na | 16,290
*Based upon the mean of the average hourly wages for Physicians (292-1069; $83.59), Pharmacists (29-1051; $51.27), Physician Assistants and Nurse Practitioners (29-1071; $40.78), Registered Nurses (29-1111; $31.99) and Healthcare Practitioners (29-9099; $25.05), National Compensation Survey: Occupational wages in the United States May 2009, “U.S. Department of Labor, Bureau of Labor Statistics.”

Estimated Annual Costs to the Federal Government

Exhibit 3 shows the total and annualized cost for the 45 CME/CE/CEU modules (15 per year for 3 years). The total cost is estimated to be $3,963,150.

Exhibit 3. Estimated Total and Annualized Cost

Cost component | Total cost | Annualized cost
Development of CME/CE/CEU Module | $2,256,300 | $752,100
Module Accreditation | 900,000 | 300,000
Module Dissemination | 450,000 | 150,000
Evaluation instrument development and dissemination, data collection, processing and analysis | 356,850 | 118,950
Total | 3,963,150 | 1,321,050

Request for Comments

In accordance with the Paperwork Reduction Act, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: May 12, 2011.
Carolyn M. Clancy,
Director.

[FR Doc. 2011-12668 Filed 5-24-11; 8:45 am]

BILLING CODE M